DEPARTMENT OF STATE

[Public Notice 7066]

Announcement of Meetings of the International Telecommunication Advisory Committee

Summary: This notice announces meetings of the International Telecommunication Advisory Committee (ITAC) to start preparations for the 2010 Plenipotentiary Conference of the International Telecommunication Union (ITU) and the 2011 ITU Radiocommunication Sector (ITU-R) World Radiocommunication Conference Preparatory Meeting.

The ITAC will meet to begin preparation of advice for the U.S. government on the 2010 ITU Plenipotentiary Conference (Guadalajara, Mexico) on Thursday July 8, 2010, 2-4 p.m. Eastern Daylight Time, at 1120 20th Street, Washington, DC 20036. There will also be reports on recent meetings at ITU and OAS/CITEL (e.g. Study Group meetings, the ITU World Telecommunication Development Conference). For those people outside the Washington, DC metro area, a conference bridge will be provided.

The ITAC will meet to begin preparation of advice for the U.S. government on the 2011 ITU-R World Radiocommunication Conference Preparatory Meeting on Wednesday, August 11, 2010, 2-4 p.m. Eastern Daylight Time, at 1200 Wilson Boulevard, Arlington, VA 22209. For those people outside the Washington, DC metro area, a conference bridge will be provided. People expecting to attend this meeting in person should advise the Department of State at najarianpb@state.gov or 202 647-7847.

These meetings are open to the public as seating capacity allows. The public will have an opportunity to provide comments at this meeting. People desiring further information on these meetings or wishing to request reasonable accommodation may contact the Secretariat at minardje@state.gov or 202 647-5205.

Dated: June 14, 2010.
Cecily C. Holiday,
International Communications & Information Policy, U.S. Department of State.

[FR Doc. 2010-14911 Filed 6-18-10; 8:45 am]

BILLING CODE 4710-07-P